CORPORATION FOR NATIONAL AND COMMUNITY SERVICE

New Information Collection; Submission for OMB Review; Comment Request

AGENCY: Corporation for National and Community Service.

ACTION: Notice.

SUMMARY: The Corporation for National and Community Service (hereinafter the “Corporation”), has submitted a proposed new public information collection request (ICR) entitled AmeriCorps Member Activity Collection Form to the Office of Management and Budget (OMB) for review and approval in accordance with the Paperwork Reduction Act of 1995 (Pub. L. 104-13), (44 U.S.C. Chapter 35). Copies of this ICR, with applicable supporting documentation, may be obtained by calling the Corporation for National and Community Service, Kelly Arey, (202) 606-5000, ext. 197. Individuals who use a telecommunications device for the deaf (TTY-TDD) may call (202) 565-2799 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in the Federal Register:

(1) By fax to: (202) 395-6974, Attention: Ms. Katherine Astrich, OMB Desk Officer for the Corporation for National and Community Service; and

(2) Electronically by e-mail to: Katherine_Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on December 10, 2004. This comment period ended on March 29, 2005. No public comments were received.

Description: The State Performance Report is the Corporation's first comprehensive effort at presenting disaggregated performance data by state and program. The AmeriCorps Member Activity Collection Form will use email and telephone correspondence to solicit information annually from State Service Commissions about the programs in their portfolio, including competitive, formula, and commission Education Award Only Programs.

The purpose of this request is to seek approval for a new information collection for the annual State Performance Report using the AmeriCorps Member Activity Collection Form. The Corporation will use the information collected in the AmeriCorps Member Activity Collection Form to identify where AmeriCorps members are serving specifically, including the site address and zip code and in what capacity they are serving. This information is currently not required of our grantees to report to us, and is not available in our data systems. Collecting this information on an annual basis will allow the Corporation to assess how community needs are being met on a more comprehensive level and conduct more sophisticated policy analysis.

Type of Review: New.

Agency: Corporation for National and Community Service.

Title: AmeriCorps Member Activity Collection Form.

OMB Number: None.

Agency Number: None.

Affected Public: Non-profit institutions, Government.

Total Respondents: 52.

Frequency: Annual.

Average Time Per Response: 20 hours.

Estimated Total Burden Hours: 1040 hours.

Total Burden Cost (capital/startup): None.

Total Burden Cost (operating/maintenance): None.

Dated: May 25, 2005.
Robert Grimm,
Director, Research and Policy Development.

[FR Doc. 05-11355 Filed 6-7-05; 8:45 am]

BILLING CODE 6050-$$-P